COMMISSION ON CIVIL RIGHTS

Sunshine Act Meeting

AGENCY: Commission on Civil Rights.

DATE AND TIME: Friday, July 13, 2001, 9:30 a.m.

PLACE: U.S. Commission on Civil Rights, 624 Ninth Street, NW., Room 540, Washington, DC 20425.

STATUS:

Agenda

I. Approval of Agenda.

II. Approval of Minutes of June 8, 2001 Meeting.

III. Announcements.

IV. Staff Director's Report.

V. Recommendations to Congress for National Electoral Reform.

VI. “Federal Efforts to Eradicate Employment Discrimination in State and Local Governments” Report.

VII. Future Agenda Items.

CONTACT PERSON FOR FURTHER INFORMATION: David Aronson, Press and Communications (202) 376-8312.

Edward A. Hailes, Jr.,
General Counsel.

[FR Doc. 01-17113 Filed 7-3-01; 3:20 pm]

BILLING CODE 6335-01-M